DEPARTMENT OF AGRICULTURE

U.S. Codex Office

Codex Alimentarius Commission: Meeting of the Codex Committee on Nutrition and Foods for Special Dietary Uses

AGENCY: U.S. Codex Office, USDA.

ACTION: Notice of public meeting and request for comments.

SUMMARY: The U.S. Codex Office is sponsoring a public meeting on Wednesday, February 8, 2023, from 1-4 p.m. EST. The objective of the public meeting is to provide information and receive public comments on agenda items and draft United States (U.S.) positions to be discussed at the 43rd Session of the Codex Committee on Nutrition and Foods for Special Dietary Uses (CCNFSDU) of the Codex Alimentarius Commission, which will meet in Dusseldorf, Germany, from March 6-10, 2023. The U.S. Manager for Codex Alimentarius and the Acting Deputy Under Secretary for Trade and Foreign Agricultural Affairs recognize the importance of providing interested parties the opportunity to obtain background information on the 43rd Session of the CCNFSDU and to address items on the agenda.

DATES: The public meeting is scheduled for February 8, 2023, from 1:00-4:00 p.m. EST.

ADDRESSES: The public meeting will take place via video teleconference only. Documents related to the 43rd Session of the CCNFSDU will be accessible via the internet at the following address: https://www.fao.org/fao-who-codexalimentarius/meetings/detail/en/?meeting=CCNFSDU&session=43.

Dr. Douglas Balentine, U.S. Delegate to the 43rd Session of the CCNFSDU, invites interested U.S. parties to submit their comments electronically to the following email address: douglas.balentine@fda.hhs.gov.

Registration: Attendees may register to attend the public meeting here: https://www.zoomgov.com/meeting/register/vJItde-srD4oHLgvBHwXapaGAw8FzQxO3j8.

After registering, you will receive a confirmation email containing information about joining the meeting.

For further information about the 43rd Session of the CCNFSDU, contact U.S. Delegate, Dr. Douglas Balentine, Senior Science Advisor, International Nutrition Policy, Center for Food Safety and Applied Nutrition, U.S. Food and Drug Administration, 5001 Campus Drive (HFS-830), College Park, MD 20740; Phone: (240) 672-7292; Email: douglas.balentine@fda.hhs.gov. For further information about the public meeting, contact the U.S. Codex Office, 1400 Independence Avenue SW, Room 4861, South Agriculture Building, Washington, DC 20250; Phone 202-205-7760; Email: uscodex@usda.gov.

SUPPLEMENTARY INFORMATION:

Background

The Codex Alimentarius Commission was established in 1963 by two United Nations organizations: the Food and Agriculture Organization and the World Health Organization. Through adoption of food standards, codes of practice, and other guidelines developed by its committees, and by promoting their adoption and implementation by governments, Codex seeks to protect the health of consumers and ensure fair practices in the food trade.

The Terms of Reference of the Codex Committee on Nutrition and Foods for Special Dietary Uses (CCNFSDU) are:

(a) To study specific nutritional problems assigned to it by the Commission and advise the Commission on general nutrition issues;

(b) To draft general provisions, as appropriate, concerning the nutritional aspects of all foods;

(c) To develop standards, guidelines, or related texts for foods for special dietary uses, in cooperation with other committees where necessary;

(d) To consider, amend if necessary, and endorse provisions on nutritional aspects proposed for inclusion in Codex standards, guidelines, and related texts.

The CCNFSDU is hosted by Germany. The United States attends the CCNFSDU as a member country of Codex.

Issues To Be Discussed at the Public Meeting

The following items on the Agenda for the 43rd Session of the CCNFSDU will be discussed during the public meeting:

• Matters referred to the Committee by the Codex Alimentarius Commission and/or other subsidiary bodies

• Matters of interest arising from FAO and WHO

• Review of the Standard for Follow-up Formula (CXS 156-1987)

○ Preamble and structure

• Technological justification for several food additives

• Prioritization mechanism/emerging issues or new work proposals

• Other Business and Future Work

• Methods of analysis

Public Meeting

At the public meeting on February 8, 2023, draft U.S. positions on the agenda items will be described and discussed, and attendees will have the opportunity to pose questions and offer comments. Written comments may be offered at the meeting or sent to Dr. Douglas Balentine, U.S. Delegate to the 43rd Session of the CCNFSDU (see ADDRESSES). Written comments should state that they relate to activities of the 43rd Session of the CCNFSDU.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington DC, on December 23, 2022.
Mary Frances Lowe,
U.S. Manager for Codex Alimentarius.

[FR Doc. 2022-28341 Filed 12-28-22; 8:45 am]

BILLING CODE P